DEPARTMENT OF COMMERCE

National Oceanic and Atmospheric Administration

RIN 0648-XM26

Marine Mammals; File No. 14186

AGENCY: National Marine Fisheries Service (NMFS), National Oceanic and Atmospheric Administration (NOAA), Commerce.

ACTION: Notice; receipt of application.

SUMMARY: Notice is hereby given that Sea World Inc., 9205 South Park Center Loop, Suite 400, Orlando, FL 32819 [Brad Andrews, Responsible Party], has applied in due form for a permit take two non-releasable Guadalupe fur seals (Arctocephalus townsendi) with the option of holding up to six non-releasable furs seals at any given time for purposes of enhancement.

DATES: Written, telefaxed, or e-mail comments must be received on or before January 20, 2009.

ADDRESSES: The application and related documents are available for review by selecting “Records Open for Public Comment” from the Features box on the Applications and Permits for Protected Species (APPS) home page, https://apps.nmfs.noaa.gov/index.cfm, and then selecting File No. 14186 from the list of available applications.

These documents are also available upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14186.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests authorization to permanently maintain two non-releasable Guadalupe fur seals at Sea World of California (and other Sea World facilities if relocation is necessary) for enhancement purposes. These animals were taken into captivity by the Marine Mammal Health and Stranding Network and were deemed nonreleasable. Thus, release of either of these animals would not be in the best interest of their individual welfare and that of the wild population. Furthermore, the applicant has agreed to provide additional space for future non-releasable Guadalupe fur seals should placement be necessary (up to 6 total animals). These animals would be provided with daily husbandry care and treatment for current medical conditions, routine veterinary care, and would be made available for opportunistic research. The applicant has requested a five-year permit.

Concurrent with the publication of this notice in the Federal Register, NMFS is forwarding copies of this application to the Marine Mammal Commission and its Committee of Scientific Advisors.

Dated: December 12, 2008.
P. Michael Payne,
Chief, Permits, Conservation and Education Division, Office of Protected Resources, National Marine Fisheries Service.

[FR Doc. E8-30243 Filed 12-18-08; 8:45 am]

BILLING CODE 3510-22-S